DEPARTMENT OF HEALTH AND HUMAN SERVICES

Centers for Disease Control and Prevention

Disease, Disability, and Injury Prevention and Control Special Emphasis Panel (SEP): Public Health Research on Down Syndrome and Interventions for Youth, Funding Opportunity Announcement (FOA) DD09-005; and Young Adults With Fetal Alcohol Spectrum Disorders (U84), FOA DD09-006, Initial Review

In accordance with Section 10(a)(2) of the Federal Advisory Committee Act (Pub. L. 92-463), the Centers for Disease Control and Prevention (CDC) announce the aforementioned meeting.

Times and Dates:

1 p.m.-4 p.m., May 19, 2009 (Closed).

1 p.m.-4 p.m., May 20, 2009 (Closed).

1 p.m.-4 p.m., May 21, 2009 (Closed).

Place: Teleconference.

Status: The meeting will be closed to the public in accordance with provisions set forth in Section 552b(c) (4) and (6), Title 5 U.S.C., and the Determination of the Director, Management Analysis and Services Office, CDC, pursuant to Public Law 92-463.

Matters to be Discussed: The meeting will include the initial review, discussion, and evaluation of applications received in response to “Public Health Research on Down Syndrome and Interventions for Youth, FOA DD09-005; and Young Adults with Fetal Alcohol Spectrum Disorders (U84), FOA DD09-006.”

Contact Person for More Information: Geneva L. Cashaw, Designated Federal Officer, CDC, 4770 Buford Highway, NE., Mailstop K92, Atlanta, GA 30341, Telephone 770-488-8294. The Director, Management Analysis and Services Office, has been delegated the authority to sign Federal Register notices pertaining to announcements of meetings and other committee management activities, for both CDC and the Agency for Toxic Substances and Disease Registry.

Dated: April 24, 2009.
Elaine L. Baker,
Director, Management Analysis and Services Office, Centers for Disease Control and Prevention.

[FR Doc. E9-9951 Filed 4-29-09; 8:45 am]

BILLING CODE 4163-18-P